DEPARTMENT OF JUSTICE

Notice of Lodging of Consent Decree Under the Comprehensive Environmental Response, Compensation, and Liability Act (“CERCLA”)

Notice is hereby given that on August 27, 2013, a proposed consent decree (“proposed Decree”) in United States v. American Gage & Machine Co., Size Control Division, et al., C.A. No. 1:11-cv-04791, was lodged with the United States District Court for the Northern District of Illinois.

In this action under Section 107(a) of the Comprehensive Environmental Response, Compensation, and Liability Act, 42 U.S.C. 9607(a) (“CERCLA”), the United States sought to recover response costs incurred or to be incurred by the United States as a result of releases and threatened releases of hazardous substances from the U.S. Scrap Site, an abandoned hazardous waste disposal and drum recycling facility located near 123rd Street and Cottage Grove Avenue in Chicago, Cooke County, Illinois. The proposed Decree requires the Settling Defendants to pay $1.71 million to the United States in reimbursement of past response costs.

The publication of this notice opens a period for public comment on the Consent Decree. Comments should be addressed to the Deputy Assistant Attorney General, Environment and Natural Resources Division, and should refer to United States v. American Gage & Machine Co., Size Control Division, et al., D.J. Ref. No. 90-11-3-20/1. All comments must be submitted no later than thirty (30) days after the publication date of this notice. Comments may be submitted either by email or by mail:

To submit comments: | Send them to:
By e-mail | pubcomment-ees.enrd@usdoj.gov.
By mail | Deputy Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $8.50 (25 cents per page reproduction cost) payable to the United States Treasury.

Maureen Katz,
Assistant Chief Management, Environmental Enforcement Section, Environment and Natural Resources Division.

[FR Doc. 2013-21292 Filed 8-30-13; 8:45 am]

BILLING CODE 4410-15-P